DEPARTMENT OF ENERGY

International Energy Agency Meetings

AGENCY: Department of Energy.

ACTION: Notice of meetings.

SUMMARY: The Industry Advisory Board (IAB) to the International Energy Agency (IEA) will meet on June 25, 2025, and June 26, 2025, as a hybrid meeting via webinar and in person, in connection with a joint meeting of the IEA's Standing Group on Emergency Questions (SEQ) and the IEA's Standing Group on the Oil Market (SOM) which is scheduled at the same time via webinar and in person.

DATES: June 25, 2025, and June 26, 2025.

ADDRESSES: The location details of the SEQ and SOM webinar meeting are under the control of the IEA Secretariat, located at 9 rue de la Fédération, 75015 Paris, France. The in-person meeting will take place at IEA Headquarters, 9 rue de la Fédération, 75015 Paris, France.

FOR FURTHER INFORMATION CONTACT: Mr. Matthew Zogby, Attorney Advisor in the Office of the Assistant General Counsel for International and National Security Programs, Department of Energy, 1000 Independence Avenue SW, Washington, DC 20585, (202) 586-5000, matthew.zogby@hq.doe.gov.

SUPPLEMENTARY INFORMATION: In accordance with section 252(c)(1)(A)(i) of the Energy Policy and Conservation Act (42 U.S.C. 6272(c)(1)(A)(i)) (EPCA), the following notice of meetings, which has been delayed due to unavoidable logistical issues, is provided:

A meeting of the Industry Advisory Board (IAB) to the International Energy Agency (IEA) will be held in person and via webinar at the IEA Headquarters, 9 rue de la Fédération, 75015 Paris, commencing at 9:30 a.m., Paris time, on June 25, 2025. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda

1. Adoption of the Agenda

2. Approval of Summary Record of meeting of 26 March 2025

3. Update on the Current Oil Market Situation

4. Reports on Recent Oil Market and Policy Developments in IEA and Association member countries

5. Impressions from the Oil and Gas Session of the Summit on the Future of Energy Security

6. Outlook for World Economy in the Short and Medium term

7. World Energy Investment Report

8. Medium Term Oil Market Report 2024

9. Update on Electric Vehicles and Vehicle Efficiency Improvements

10. US NGL Outlook

11. Reflections from the IAB on the Medium Term Outlook

12. Any other business:

Date of next SOM/SEQ meetings:

—19-20 November 2025

A meeting of the Industry Advisory Board (IAB) to the International Energy Agency (IEA) will be held in person and via webinar at the IEA Headquarters, 9 rue de la Fédération, 75015 Paris, commencing at 9:30 a.m., Paris time, on June 26, 2025. The purpose of this notice is to permit attendance by representatives of U.S. company members of the IAB at a meeting of the IEA's Standing Group on Emergency Questions (SEQ), which is scheduled to be held at the same location in person and via webinar at the same time. The IAB will also hold an online preparatory meeting among company representatives at 2:00 p.m. Paris time on June 19, 2025. The agenda for this preparatory meeting is to review the agendas for the SEQ meeting.

The agenda of the SEQ meeting is under the control of the SEQ. It is expected that the SEQ will adopt the following agenda:

Closed SEQ Session—IEA Member Countries Only

1. Adoption of the Agenda

2. Approval of the Summary Record of the 181st SEQ meeting

3. Stockholding Levels of IEA Member Countries

4. Mid-Term Review update from New Zealand

Open SEQ Session—Open to Association Countries

5. Questionnaire Results on Emergency Exercises in Member Countries

6. Emergency and Security Review (ESR) of Germany

7. Mid-Term Review update from Greece

8. Emergency and Security Review (ESR) of Lithuania

9. Industry Advisory Board Update

10. Update on Natural Gas and Sustainable Gases Security Working Party

11. Update on Ongoing Work on Natural Gas Security

12. Update on Ongoing Work on Electricity Security

13. Update on Emergency and Security Work with Non-Member Countries

14. Any Other Business

Schedule of ESRs for 2025/26

Schedule of SEQ & SOM Meetings:

—19-20 November 2025

—25-26 March 2026

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on June 10, 2025, by William T. Joyce, Acting Assistant Secretary, Office of International Affairs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, June 17, 2025.
Treena V. Garrett,
Federal Register Liaison Officer, U.S. Department of Energy.

[FR Doc. 2025-11352 Filed 6-18-25; 8:45 am]

BILLING CODE 6450-01-P